DEPARTMENT OF JUSTICE

[AAG/A Order No. 233-2001]

Privacy Act of 1974; System of Records

AGENCY: Federal Bureau of Investigation, DOJ.

ACTION: Notice.

SUMMARY: Pursuant to the Privacy Act of 1974 (5 U.S.C. 552a), and Office of Management and Budget (OMB) Circular No. A-130, notice is hereby given that the Department of Justice, Federal Bureau of Investigation (FBI), is establishing ten “blanket” routine uses to be applicable to more than one FBI system of records. Further, the FBI is modifying the following systems of records:

Bureau Mailing Lists, Justice/FBI-003 (previously published on October 5, 1993, at 58 FR 51846); and

Electronic Surveillance (ELSUR) Indices, Justice/FBI-006 (previously published on March 10, 1992, at 57 FR 8473).

Opportunity for Comment: The Privacy Act (5 U.S.C. 552a(e)(r) and (11)) requires that the public be given 30 days in which to comment on any new or amended uses of information in a system of records. In addition, in accordance with Privacy Act requirements (5 U.S.C. 552a(r)), the Department of Justice has provided a report on these modifications to OMB and the Congress. OMB, which has oversight responsibilities under the Act, requires that OMB and the Congress be given 40 days in which to review major changes to Privacy Act systems. Therefore, the public, OMB, and the Congress are invited to submit written comments on this modification.

Address Comments or Request for Further Information to: Mary E. Cahill, Management Analyst, Management and Planning Staff, Justice Management Division, Department of Justice, 1400 National Place, Washington, DC 20530.

EFFECTIVE DATE: These proposed changes will be effective August 1, 2001, unless comments are received that result in a contrary determination.

SUPPLEMENTARY INFORMATION: The FBI is proposing to establish ten blanket routine uses in order to: (1) Foster greater public understanding by simplifying and consolidating FBI Privacy Act issuances; (2) minimize through use of standardized wording the potential for misunderstanding or misinterpretation which might arise from unintended variations in different versions of common routine uses; and (3) reduce costs and duplication of effort in the publication and maintenance of FBI Privacy Act issuances. Unless this or other published notice expressly provides otherwise, these blanket routine uses will apply to existing FBI systems of records as indicated below and to all FBI systems of records created or modified hereafter. However, the FBI is not at this time applying blanket routine uses to the National DNA Index System (NDIS) (Justice/FBI-017) or to the National Instant Criminal Background Check System (NICS) (Justice/FBI-018). (Any blanket routine uses which the FBI may in the future propose to apply to these two systems will be implemented by express reference in revisions to the respective systems notices.)

In large part these blanket routine uses standardize wording of routine uses already promulgated for one or more FBI or DOJ systems. The wording of a blanket use may differ somewhat from the existing counterpart(s). These differences generally do not reflect substantially different uses; however, some uses are clarified or broadened as to when and to whom disclosures may be made. Furthermore, Blanket Routine Use 9 is a new use not now reflected in any FBI system.

Upon taking effect, these blanket routine uses will apply to the FBI systems indicated below:

National Crime Information Center (NCIC), JUSTICE/FBI-001 (last published in the Federal Register on September 28, 1999, at 64 FR 52343);

FBI Central Records System, JUSTICE/FBI-002 (last published in the Federal Register on February 20, 1998, at 63 FR 8671);

Bureau Mailing Lists, JUSTICE/FBI-003 (published in today's Federal Register);

Electronic Surveillance (ELSUR) Indices, JUSTICE/FBI-006 (published in today's Federal Register);

FBI Automated Payroll System, JUSTICE/FBI-007 (last published in the Federal Register on October 5, 1993, at 58 FR 51874);

Bureau Personnel Management System (BPMS), JUSTICE/FBI-008 (last published in the Federal Register on October 5, 1993, at 58 FR 51875);

Fingerprint Identification Records System (FIRS), JUSTICE/FBI-009 (last published in the Federal Register on September 28, 1999, at 64 FR 52347);

Employee Travel Vouchers and Individual Earning Records, JUSTICE/FBI-010 (last published in the Federal Register on December 11, 1987, at 52 FR 47248);

Employee Health Records, JUSTICE/FBI-011 (last published in the Federal Register on October 5, 1993, at 58 FR 51875);

Time Utilization Record/Keeping (TURK) System, JUSTICE/FBI-012 (last published in the Federal Register on October 5, 1993, at 58 FR 51876);

Security Access Control System (SACS), JUSTICE/FBI-013 (last published in the Federal Register on October 5, 1993, at 58 FR 51877);

FBI Alcoholism Program, JUSTICE/FBI-014 (last published in the Federal Register on December 11, 1987, at 52 FR 47251);

National Center for the Analysis of Violent Crime (NCAVC), JUSTICE/FBI-015 (last published in the Federal Register on October 5, 1993, at 58 FR 51877);

FBI/Counterdrug Information Indices Systems (CIIS), JUSTICE/FBI-016 (last published in the Federal Register on June 9, 1994, at 59 FR 29824);

The routine uses currently published for each system will also continue to apply to that system. As individual FBI system notices are hereafter revised, we will eliminate individual system routine uses which duplicate blanket routine uses and add express reference to the applicability of the blanket routine uses.

The Department is also modifying the Bureau Mailing Lists and the ELSUR systems of records in order to clarify and more accurately describe them. The Bureau Mailing Lists system notice is being modified to clarify the categories of individuals covered by the system, the categories of records in the system, and the record access procedures. The existing routine uses are modified to include a system specific routine use which permits the disclosure of system records to public and/or private entities where such disclosures may promote, assist, or otherwise serve law enforcement interests. The notice also provides that records can be disclosed in accordance with the blanket routine uses that are concurrently being established for FBI records systems.

The ELSUR notice is being modified to include a new category of records in the system, “reference records.” Additionally, the ELSUR notice clarifies the record access procedures. The routine uses for the ELSUR system were also modified to reflect three additional system specific routine uses which permit the disclosure of system records to public and/or private entities where: (1) Such disclosures may promote, assist, or otherwise serve law enforcement interests; (2) the FBI deems it reasonable and helpful in eliciting information or cooperation from the recipient for use by the FBI in the performance of an authorized function; or (3) there is reason to believe that a person or entity could become the target of a particular criminal activity or conspiracy. In addition, the notice provides that records may be disclosed pursuant to the proposed blanket routine uses being published simultaneously herein.

Both the Bureau Mailing Lists and the ELSUR systems are being republished to reflect these and other minor changes, including the addition of a “Purpose” section to both notices.

A description of the proposed ten blanket routine uses and the modification to the Bureau Mailing Lists and the ELSUR systems of records is provided below.

Dated: June 11, 2001.
Janis A. Sposato,
Acting Assistant Attorney General for Administration.

JUSTICE/FBI-BRU

SUBJECT:

Blanket Routine Uses (BRU) Applicable to More Than One FBI Privacy Act System of Records.

APPLICABILITY:

The following routine uses describe those types of disclosures which are common to more than one FBI Privacy Act system of records and which the FBI is establishing as “blanket” routine uses. Unless this or other published notice expressly provides otherwise, these blanket routine uses shall apply, without need of further implementation, to every existing FBI Privacy Act system of records and to all FBI systems of records created or modified hereafter. These blanket routine uses supplement but do not replace any routine uses that are separately published in the notices of individual record systems to which the blanket routine uses apply.

ROUTINE USES OF RECORDS MAINTAINED IN FBI SYSTEMS, INCLUDING CATEGORIES OF USERS AND THE PURPOSES OF SUCH USES:

System records may be disclosed to the following persons or entities under the circumstances or for the purposes described below, to the extent such disclosures are compatible with the purpose for which the information was collected. (These routine uses are not meant to be mutually exclusive and may overlap in some cases.)

BRU-1. Violations of Law, Regulation, Rule, Order, or Contract. If any system record, on its face or in conjunction with other information, indicates a violation or potential violation of law (whether civil or criminal), regulation, rule, order, or contract, the pertinent record may be disclosed to the appropriate entity (whether federal, state, local, joint, tribal, foreign, or international), that is charged with the responsibility of investigating, prosecuting, and/or enforcing such law, regulation, rule, order, or contract.

BRU-2. Non-FBI Employees. To contractors, grantees, experts, consultants, students, or other performing or working on a contract, service, grant, cooperative agreement, or other assignment for the Federal Government, when necessary to accomplish an agency function.

BRU-3. Appropriate Disclosures to the Public. To the news media or members of the general public in furtherance of a legitimate law enforcement or public safety function as determined by the FBI, e.g., to assist in locating fugitives; to provide notifications of arrests; to provide alerts, assessments, or similar information on potential threats to life, health, or property; or to keep the public appropriately informed of other law enforcement or FBI matters or other matters of legitimate public interest where disclosure could not reasonably be expected to constitute an unwarranted invasion of personal privacy. (The availability of information in pending criminal or civil cases will be governed by the provisions of 28 CFR 50.2.)

BRU-4. Courts or Adjudicative Bodies. To a court or adjudicative body, in matters in which (a) the FBI or any FBI employee in his or her official capacity, (b) any FBI employee in his or her individual capacity where the Department of Justice has agreed to represent the employee, or (c) the United States, is or could be a party to the litigation, is likely to be affected by the litigation, or has an official interest in the litigation, and disclosure of system records has been determined by the FBI to be arguably relevant to the litigation. Similar disclosures may be made in analogous situations related to assistance provided to the Federal Government by non-FBI employees (see BRU-2).

BRU-5. Parties. To an actual or potential party or his or her attorney for the purpose of negotiating or discussing such matters as settlement of the case or matter, or informal discovery proceedings, in matters in which the FBI has an official interest and in which the FBI determines records in the system to be arguably relevant.

BRU-6. As Mandated by Law. To such recipients and under such circumstances and procedures as are mandated by Federal statute or treaty.

BRU-7. Members of Congress. To a Member of Congress or a person on his or her staff acting on the Member's behalf when the request is made on behalf and at the request of the individual who is the subject of the record.

BRU-8. NARA/GSA Records Management. To the National Archives and Records Administration and the General Services Administration for records management inspections and such other purposes conducted under the authority of 44 U.S.C. 2904 and 2906.

BRU-9. Auditors. To any agency, organization, or individual for the purposes of performing authorized audit or oversight operations of the FBI and meeting related reporting requirements.

BRU-10. Former Employees. The DOJ may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility. (Such disclosures will be effected under procedures established in title 28, Code of Federal Regulations, sections 16.300-301 and DOJ Order 2710.8C, including any future revisions.)

FBI RECORDS SYSTEMS TO WHICH THESE BLANKET ROUTINE USES DO NOT APPLY:

These blanket routine uses shall not apply to the following FBI Privacy Act systems of records (to which shall apply only those routine uses established in the records system notice for the particular system):

JUSTICE/FBI-017, National DNA Index System (NDIS) (last published in the Federal Register on July 18, 1996, at 61 FR 37495); and

JUSTICE/FBI-018, National Instant Criminal Background Check System (NICS) (last published in the Federal Register on November 25, 1998, at 63 FR 65,223).

JUSTICE/FBI-003

SYSTEM NAME:

Bureau Mailing Lists.

SYSTEM LOCATION:

Records may be maintained at all locations at which the Federal Bureau of Investigation (FBI) operates, including: J. Edgar Hoover Bldg., 935 Pennsylvania Ave., NW., Washington, DC 20535; FBI Academy, Quantico, VA 22135; FBI Criminal Justice Information Services (CJIS) Division, 1000 Custer Hollow Rd., Clarksburg, WV 26306; and FBI field offices, legal attaches, and information technology centers as listed on the FBI's Internet website, http://www.fbi.gov, including any future revisions to the website.

CATEGORIES OF INDIVIDUALS COVERED BY THE SYSTEM:

All persons appearing on mailing lists maintained throughout the FBI to facilitate mailings to multiple addressees in furtherance of FBI activities. These include persons who have requested Bureau material, persons who are routinely forwarded unsolicited Bureau material and who meet established criteria (generally law enforcement or closely related interests), and persons who may be in a position to furnish assistance in furtherance of the FBI's mission. These do not include persons on mailing lists not encompassed within this system as described in the section titled “Categories of Records in the System.”

CATEGORIES OF RECORDS IN THE SYSTEM:

Records may include name, address, business affiliation, and supplemental information related to addressees and relevant to a list's purpose. These do not, however, include mailing lists which have been incorporated into some other FBI records system, such as a mailing list supporting a particular investigation maintained as an investigative record within the FBI's Central Records System.

AUTHORITY FOR MAINTENANCE OF THE SYSTEM:

Title 5, United States Code, section 301; title 44, United States Code, section 3101; title 28, United States Code, section 533; and title 28, Code of Federal Regulations, section 0.85.

PURPOSE(S):

System records are used for mailing FBI material to multiple addressees, via hard copy, e-mail, or other means of distribution, in furtherance of FBI activities. For example, various fugitive alerts are furnished to local law enforcement agencies, investigations periodicals are provided to law enforcement professionals, and information on local law enforcement issues may be provided to community leaders.

ROUTINE USES OF RECORDS MAINTAINED IN THE SYSTEM, INCLUDING CATEGORIES OF USERS AND THE PURPOSES OF SUCH USES:

The FBI may disclose relevant system records in accordance with any blanket routine uses established for FBI records systems. See Blanket Routine Uses Applicable for FBI records systems. See Blanket Routine Uses Applicable to More Than One FBI Privacy Act System of Records, Justice/FBI-BRU, as published today in the Federal Register (and any future revisions).

In addition, as a routine use specific to this system, the FBI may disclose relevant system records to the following persons or entities under the circumstances or for the purposes described below, to the extent such disclosures are comptiable with the purpose for which the information was collected. (Routine uses are not meant to be mutually exclusive and may overlap in some cases.)

A. To a federal, state, local, joint, tribal, foreign, international, or other public agency/organization, or to any person or entity in either the public or private sector, domestic or entity in either the public or private sector, domestic or foreign, where such disclosure may promote, assist, or otherwise serve law enforcement interests. By way of example and not limitation, such disclosures may for instance include: Sharing names of law enforcement professionals receiving FBI periodicals with law enforcement agencies interested in reaching a similar audience; sharing information of intelligence value with other law enforcement on intelligence agencies to whose lawful responsibilities the information may be germane; or sharing information pertinent to victim/witness assistance with local government entities in furtherance of such assistance.

POLICIES AND PRACTICES FOR STORING, RETRIEVING, ACCESSING, RETAINING, AND DISPOSING OF RECORDS IN THE SYSTEM:

STORAGE:

Most information is maintained in computerized form and stored in memory, on disk storage, on computer tape, or other computer media. However, some information may also be maintained in hard copy (paper) or other form.

RETRIEVABILITY:

Information typically will be retrieved by an ID number assigned by computer or by name of person or organization.

SAFEGUARDS:

System records are maintained in limited access space in FBI facilities and offices. Computerized data is password protected. All FBI personnel are required to pass an extensive background investigation. The information is accessed only by authorized FBI personnel or by non-FBI personnel properly authorized to assist in the conduct of an agency function related to these records.

RETENTION AND DISPOSAL:

FBI offices revised the lists as necessary. The records are destroyed, under authority granted by the National Archives and Records Administration, when administrative needs are satisfied (Job. No. NC1-65-82-4, part E, item 13 (I)).

SYSTEM MANAGER(S) AND ADDRESS:

Director, FBI, 935 Pennsylvania Ave., NW, Washington, DC 20535-0001.

NOTIFICATION PROCEDURES:

Same as Record Access Procedures.

RECORD ACCESS PROCEDURES:

A request for access to a record from the system shall be made in writing with the envelope and the letter clearly market “Privacy Act Request”. Include in the request your full name and complete address. The requester must sign the request; and, to verify it, the signature must be notarized or submitted under 28 U.S.C. 1746, a law that permits statements to be made under penalty of perjury as a substitute for notarization. You may submit any other identifying data you wish to furnish to assist in making a proper search of the system. Requests for access to information maintained at FBI Headquarters must be addressed to the Director, Federal Bureau of Investigation, 935 Pennsylvania Ave., NW, Washington, DC 20535-0001. Requests for information maintained at FBI field offices, legal attaches, information technology centers, or other locations must be made separately and addressed to the specific field office, legal attache, information technology center, or other location as listed on the FBI's Internet website, http://www.fbi.gov, including any future revisions to the website.

CONTESTING RECORD PROCEDURES:

Individuals desiring to contest or amend information maintained in the system should also direct their request to the appropriate FBI office, stating clearly and concisely what information is being contested, the reasons for contesting it, and the proposed amendment to the information sought.

RECORD SOURCE CATEGORIES:

The mailing list information is based on information supplied by affected individuals/organizations, public source data, and/or information already in other FBI records systems.

SYSTEMS EXEMPTED FROM CERTAIN PROVISIONS OF THE ACT:

None.

JUSTICE/FBI 006

SYSTEM NAME:

Electronic Surveillance (ELSUR) Indices.

SYSTEM LOCATION:

Records may be maintained at all locations at which the Federal Bureau of Investigation (FBI) operates, including: J. Edgar Hoover Bldg., 935 Pennsylvania Ave., NW, Washington, DC 20535; and FBI field offices and information technology centers as listed on the FBI's Internet website, http://www.fbi.gov, including any future revisions to the website.

CATEGORIES OF INDIVIDUALS COVERED BY THE SYSTEM:

Individuals and entities who have been the targets of electronic surveillance coverage sought, conducted, or administered by the FBI pursuant to a court order or other authority; those who have been a party to a communication monitored/recorded electronically pursuant to a court order, consensual monitoring, or other authorized monitoring sought, conducted, or administered by the FBI; and those who own, lease, license, hold a possessor interest in, or commonly use the location subjected to electronic surveillance.

CATEGORIES OF RECORDS IN THE SYSTEM:

The ELSUR Indices are comprised of four types of records:

1. Principal records identify, by true name or best known name, all persons, entities, and facilities who have been the targets of electronic surveillance coverage sought, conducted, or administered by the FBI pursuant to a court order or other authority. These records include, but are not limited to, persons, entities, and facilities named in an application filed by the FBI in support of an affidavit seeking a court order to conduct or administer an electronic surveillance. Principal records may also include descriptive data associated with the name appearing on the record.

2. Proprietary-interest records identify entities and/or individuals who own, lease, license, hold a possessory interest in, or commonly use the location subjected to an electronic surveillance. Proprietary-interest records may also include descriptive data associated with the name appearing on the record.

3. Intercept records identify, by true name or best known name, individuals who have been reasonably identified by a first name or initial and a last name as being a party to a communication monitored/recorded electronically by the FBI pursuant to an electronic surveillance. Intercept records also identify entities that have been a party to a communication monitored/recorded electronically by the FBI pursuant to an electronic surveillance. Intercept records may include descriptive data associated with the name appearing on the record.

4. Reference records identify, by partial name, such as a first name only, last name only, code name, nickname, or alias those individuals who have been a party to a communication monitored/recorded electronically by the FBI pursuant to an electronic surveillance, and may include descriptive data associated with the individual. If the individual is later identified by a more complete name, e.g., through further monitoring or normal investigative procedures, the reference record is re-entered as an intercept record.

AUTHORITY FOR MAINTENANCE OF THE SYSTEM:

The ELSUR Indices were initiated in October, 1966, at the recommendation of the Department of Justice and relate to electronic surveillance sought, administered, and/or conducted by the FBI since January 1, 1960. The authority for the maintenance of these records is title 5, United States Code, section 301; title 44, United States Code, section 3101; title 18, United States Code, section 2510, et seq.; title 18, United States Code, section 3504; title 28, United States Code, section 533, title 50, United States Code 1801, et seq.; and title 28, Code of Federal Regulations, section 0.85.

PURPOSE(S):

These records are used by the FBI to maintain certain information regarding electronic surveillance sought, conducted or administered by the FBI in order to permit the agency to respond to judicial inquiries about possible electronic surveillance coverage of any individual or entity involved in Federal court proceedings and to enable the Government to certify, as requested by federal, state or local law enforcement agencies, whether or not an individual, entity, facility, or place on whom a court ordered authority is being sought for electronic surveillance coverage has ever been subjected to electronic surveillance coverage in the past.

ROUTINE USES OF RECORDS MAINTAINED IN THE SYSTEM, INCLUDING CATEGORIES OF USERS AND THE PURPOSES OF SUCH USES:

The FBI may disclose relevant system records in accordance with any blanket routine uses established for FBI records systems. See Blanket Routine Uses Applicable to More Than One FBI Privacy Act System of Records, Justice/FBI-BRU, as published today in the Federal Register (and any future revisions).

In addition, as routine uses specific to this system, the FBI may disclose relevant system records to the following persons or entities under the circumstances or for the purposes described below, to the extent such disclosures are compatible with the purpose for which the information was collected. (Routine uses are not meant to be mutually exclusive and may overlap in some cases.)

A. To the judiciary in response to inquiries about possible electronic surveillance coverage of any individual or entity involved in Federal court proceedings.

B. To federal, state, and local law enforcement officers to enable the government to certify whether or not an individual, entity, facility, or place on whom a court ordered authority is being sought for electronic surveillance coverage has ever been subjected to electronic surveillance coverage in the past.

C. To a federal, state, local, joint, tribal, foreign, international, or other public agency/organization, or to any person or entity in either the public or private sector, domestic or foreign, where such disclosure may promote, assist, or otherwise serve law enforcement interests. By way of example and not limitation, such disclosures may for instance include: Sharing information of intelligence value with other law enforcement or intelligence agencies to whose lawful responsibilities the information may be germane; disclosing information to another law enforcement or intelligence agency which may bear on the suitability of a person for employment or continued employment with that agency; disclosing information to a cognizant employer or clearance-granting authority which may bear on the trustworthiness of a person to obtain or retain a security clearance; or sharing information pertinent to victim/witness assistance with local government entities in furtherance of such assistance.

D. To any person or entity in either the public or private sector, domestic or foreign, if deemed by the FBI to be reasonable and helpful in eliciting information or cooperation from the recipient for use by the FBI in the performance of an authorized function, e.g., disclosure of personal information to a member of the public in order to elicit his/her assistance/cooperation in a criminal, security, or employment background investigation.

E. To any person or entity in either the public or private sector, domestic or foreign, where there is reason to believe that a person or entity could become the target of a particular criminal activity or conspiracy, to the extent the disclosure of information is deemed by the FBI to be reasonable and relevant to the protection of life, health, or property of such target.

POLICIES AND PRACTICES FOR STORING, RETRIEVING, ACCESSING, RETAINING, AND DISPOSING OR RECORDS IN THE SYSTEM: STORAGE:

The majority of the records are maintained in an automated data base. Some records are maintained in hard-copy (paper) format or other form.

RETRIEVABILITY:

Information typically will be retrieved by the name of the individual or entity. Telephone numbers and other such serial or identification numbers are retrievable numerically. Locations targeted are retrievable by street name.

SAFEGUARDS:

System records are maintained in limited access space in FBI facilities and offices. Computerized data is password protected. All FBI personnel are required to pass an extensive background investigation. The information is accessed only by authorized FBI personnel or by non-FBI personnel properly authorized to assist in the conduct of an agency function related to these records.

RETENTION AND DISPOSAL:

A reference record is purged if the individual is later identified by a more complete name and re-entered as an intercept record. Remaining reference records are purged from the system as follows: Those relating to court ordered electronic surveillance are purged six months from the date the corresponding authorization for the surveillance expires. Reference records relating to consensual intercepts are purged one year from the last intercept date shown on the record. Until advised to the contrary by the Department, the courts, or the Congress, all other indices records will be maintained indefinitely and have been declared permanent by the National Archives and Records Administration (NARA) (Job No. NC1-65-82-4, Part E, item 2 (t)).

SYSTEM MANAGER(S) AND ADDRESS:

Director, Federal Bureau of Investigation, 935 Pennsylvania Avenue, NW, Washington, DC 20535.

NOTIFICATION PROCEDURE:

Same as Record Access Procedures.

RECORD ACCESS PROCEDURES:

A request for notification as to whether a record about an individual exists in the system and/or for access to a record from the system shall be made in writing with the envelope and the letter clearly marked “Privacy Act Request.” Include in the request your full name and complete address. The requests must sign the request; and, to verify it, the signature must be notarized or submitted under 28 U.S.C. 1746, a law that permits statements to be made under penalty of perjury as a substitute for notarization. You may submit any other identifying data you wish to furnish to assist in making a proper search of the system. Requests for access to information maintained at FBI Headquarters must be addressed to the Director, Federal Bureau of Investigation, 935 Pennsylvania Avenue, NW, Washington, DC 20535-0001. Requests for information maintained at FBI field offices, information technology centers, or other locations must be made separately and addressed to the specific field office, information technology center, or other location as listed on the FBI's Internet website, http://www.fbi.gov, including any future revisions to the website.

Some information may be exempt from notification and/or access procedures as described in the section titled “Systems Exempted from Certain Provisions of the Act.” An individual who is the subject of one or more records in this system may be notified of records that are not exempt from notification and may access those records that are not exempt from disclosure. A determination on notification and access will be made at the time a request is received.

CONTESTING RECORD PROCEDURES:

If you desire to contest or amend information maintained in the system, you should also direct your request to the appropriate FBI office, stating clearly and concisely what information is being contested, the reasons for contesting it, and the proposed amendment to the information sought.

Some information may be exempt from contesting record procedures as described in the section titled “Systems Exempted from Certain Provisions of the Act.” An individual who is the subject of one or more records in this system may contest and pursue amendment of those records that are not exempt. A determination whether a record may be subject to amendment will be made at the time a request is received.

RECORD SOURCE CATEGORIES:

Information in the indices is derived from electronic surveillance, public source information, and other FBI record systems.

SYSTEMS EXEMPTED FROM CERTAIN PROVISIONS OF THE ACT:

The Attorney General has exempted this system from subsections (c)(3) and (4), (d), (e)(1), (2) and (3), (e)(4)(G) and(H), (e)(5) and(8), (f), (g) and (m) of the Privacy Act pursuant to 5 U.S.C. 552a(j). Rules have been promulgated in accordance with the requirements of 5 U.S.C. 553(b), (c) and (e) and have been published in the Federal Register.

[FR Doc. 01-15675 Filed 6-21-01; 8:45 am]

BILLING CODE 4410-02-M